DEPARTMENT OF COMMERCE

Economics and Statistics Administration

Commerce Data Advisory Council Meeting

AGENCY: Economic and Statistics Administration, Department of Commerce.

ACTION: Notice of Public Meeting.

SUMMARY: The Economic and Statistics Administration (ESA) is giving notice of the fourth meeting of the Commerce Data Advisory Council (CDAC). The CDAC will discuss economic data as well as other Council matters. The CDAC will meet in a plenary session on May 5th and 6th, 2016. Last-minute changes to the schedule are possible, which could prevent giving advance public notice of schedule adjustments.

DATES: May 5-6, 2016. On May 5th, the meeting will begin at approximately 9:00 a.m. and end at approximately 5:00 p.m. (ET). On May 6th, the meeting will begin at approximately 9:00 a.m. and end at approximately 1:00 p.m. (ET).

ADDRESSES: The meeting will be held at Google—New York, 76 9th Avenue, New York, NY 10011.

The meeting is open to the public. Members of the public are welcome to observe the business of the meeting in person or via webcast on the CDAC Web site linked to http://www.esa.gov. A public comment session is scheduled on Friday, May 6th, 2016. The public is invited to make statements or ask questions in person. The public may also submit statements or questions via the CDAC Twitter handle: #CDACMTG, the CDAC email address, or: DataAdvisoryCouncil@doc.gov (subject line “MAY 2016 CDAC Meeting Public Comment”), or by letter to the Director of External Communication and DFO, CDAC, Department of Commerce, Economics and Statistics Administration, 1401 Constitution Ave. NW., Washington, DC 20230. Submissions by letter will be included in the record for the meeting if received by Wednesday, April 27, 2016.

Entry Requirements: If you plan to attend the meeting in person, you must complete registration on line no later than Wednesday, April 27, 2016.

http://www.eventbrite.com/e/department-of-commerce-data-advisory-council-cdac-may-2016-meeting-tickets-22470209000

The meeting is physically accessible to persons with disabilities. Requests for sign language interpretation or other auxiliary aids should be directed to the Director of External Communication as soon as possible, preferably two weeks prior to the meeting.

Seating is available to the public on a first-come, first-served basis.

FOR FURTHER INFORMATION CONTACT: Burton Reist, BReist@doc.gov, Director of External Communication and DFO, CDAC, Department of Commerce, Economics and Statistics Administration, 1401 Constitution Ave. NW., Washington, DC 20230, telephone (202) 482-3331.

SUPPLEMENTARY INFORMATION: The CDAC is comprised of 19 members, the Commerce Chief Data Officer, and the Economic and Statistics Administration. The Council provides an organized and continuing channel of communication between recognized experts in the data industry (collection, compilation, analysis, dissemination and privacy protection) and the Department of Commerce. The CDAC provides advice and recommendations, to include process and infrastructure improvements, to the Secretary, DOC and the DOC data-bureau leadership on ways to make Commerce data easier to find, access, use, combine and disseminate. The aim of this advice shall be to maximize the value of Commerce data to all users including governments, businesses, communities, academia, and individuals.

The Committee is established in accordance with the Federal Advisory Committee Act (Title 5, United States Code, Appendix 2, Section 10(a)(b)).

Dated: March 2, 2016.
Austin Durrer,
Chief of Staff for Under Secretary for Economic Affairs, Economics and Statistics Administration.

[FR Doc. 2016-05314 Filed 3-9-16; 8:45 am]

BILLING CODE P